DEPARTMENT OF AGRICULTURE

Food and Nutrition Service

Submission for OMB Review; Comment Request

November 4, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of Supplemental Nutrition Assistance Program (SNAP) Employment and Training (E&T) Pilots.

OMB Control Number: 0584-NEW.

Summary of Collection: The SNAP Employment and Training (E&T) program provides assistance to unemployed and underemployed clients in the form of job search, job skills training, education (basic, post-secondary, vocational), work experience or training and workfare. The Agriculture Act of 2014 (Pub. L. 113-79, Section 4022), authorized grants for up to 10 pilot sites to develop and rigorously test innovative SNAP E&T strategies for engaging more SNAP work registrants in employment, increasing participants' earnings and reducing reliance on public assistance.

Need and Use of the Information: An evaluation of the pilot sites will be critical in helping Congress and FNS identify strategies that effectively assist SNAP participants to succeed in the labor market and become self-sufficient. The data collected for this evaluation will be used for implementation, impact, participant and cost-benefit analyses for each pilot site.

Description of Respondents: Individual/Households; Business or other for-Profit; Not-for-profit institutions; State, Local, or Tribal Government.

Number of Respondents: 54,820.

Frequency of Responses: Reporting: Annually.

Total Burden Hours: 41,765.

Ruth Brown,
Departmental Information Collection Clearance Officer.

[FR Doc. 2015-28539 Filed 11-9-15; 8:45 am]

BILLING CODE 3410-30-P